EXPORT-IMPORT BANK

Review of Economic Impact Procedures and Methodology; Extension of Comment Period

On September 9, 2019, the Export-Import Bank of the United States (EXIM) announced its intention to review the Bank's Economic Impact Procedures and Methodology and sought public comment on FR Doc. 2019-19344 within 30 days of the date the notice appeared in the Federal Register. EXIM is extending the comment period on FR Doc. 2019-19344 an additional 15 days to October 23, 2019. EXIM's current Economic Impact Procedures can be accessed at: https://www.exim.gov/sites/default/files/newsreleases/Final-April-2013-Procedures.pdf. Interested parties may submit comments to economic.impact@exim.gov or by mail to 811 Vermont Avenue NW, Room 1257, Washington, DC 20571.

Joyce Stone,
Program Specialist, Office of the General Counsel.

[FR Doc. 2019-22358 Filed 10-11-19; 8:45 am]

BILLING CODE 6690-01-P